INTERNATIONAL TRADE COMMISSION

[USITC SE-06-038]

Government in the Sunshine Act Meeting Notice

Agency Holding the Meeting: International Trade Commission.

Time and Date: June 19, 2006 at 2 p.m.

Place: Room 101, 500 E Street, SW., Washington, DC 20436. Telephone: (202) 205-2000.

Status: Open to the public.

Matters to Be Considered:

1. Agenda for future meetings: None.

2. Minutes.

3. Ratification List.

4. Inv. Nos. 731-TA-1092 and 1093 (Final) (Diamond Sawblades and Parts Thereof from China and Korea)—briefing and vote. (The Commission is currently scheduled to transmit its determination and Commissioners' opinions to the Secretary of Commerce on or before June 30, 2006.)

5. Outstanding action jackets: None.

In accordance with Commission policy, subject matter listed above, not disposed of at the scheduled meeting, may be carried over to the agenda of the following meeting.

By order of the Commission.
Issued: June 5, 2006.
Marilyn R. Abbott,
Secretary to the Commission.

[FR Doc. 06-5248 Filed 6-6-06; 12:49 pm]

BILLING CODE 7020-02-P